POSTAL SERVICE™

39 CFR Part 111

Waiver of Signature Delivery Process

AGENCY: Postal Service.

ACTION: Final rule.

SUMMARY: The Postal Service is revising the Mailing Standards of the United States Postal Service, Domestic Mail Manual (DMM®) to update the standards regarding delivery of Express Mail® items with waiver of signature and return receipt for merchandise items with waiver of signature. Delivery employees deliver these items to the addressee's mail receptacle or other secure location without first attempting to obtain a signature from the addressee.

DATES: Effective Date: August 21, 2008.

FOR FURTHER INFORMATION CONTACT: Monica Grein at 202-268-8411.

SUPPLEMENTARY INFORMATION: Waiver of signature authorizes delivery to be made without obtaining the signature of the addressee or addressee's agent as long as the delivery employee establishes the article can be left in the addressee's mail receptacle or other secure location. By waiving signature, the sender agrees to accept the delivery time and date scan information as valid record of delivery.

When Express Mail® items with waiver of signature and return receipt for merchandise items with waiver of signature are delivered, the delivery employee will sign the PS Form 3849, Sorry We Missed You, without attempting to obtain a signature from the addressee. After signing the PS Form 3849, the delivery employee delivers the item to the addressee's mail receptacle or other secure location. This process expedites delivery time because the delivery employee is not required to try to obtain a signature from the addressee or addressee's agent, when a waiver of signature is indicated.

Comments Received: We received one comment on the proposal, from an attorney. The commenter expressed concerns about our process for handling disputes regarding mail delivery when the sender has authorized a waiver of signature.

The delivery employee has always signed the Form 3849 when “waiver of signature” was indicated and we have never provided the delivery employee's name. The only change from the previous process is that the delivery employee no longer needs to attempt to obtain a signature from the addressee first when “waiver of signature” is indicated. Therefore, the manner in which we handle delivery disputes has been well established and will not be changed.

The Postal Service adopts the following changes to Mailing Standards of the United States Postal Service, Domestic Mail Manual (DMM®), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

100 Retail Letters, Cards, Flats, and Parcels

* * * * *

110 Express Mail

113 Prices and Eligibility

* * * * *

4.0 Service Features of Express Mail

4.1 General

The service features are as follows:

* * * * *

[Revise the text of the first and second sentences in item b as follows:]

b. When a signature is waived by the mailer, the delivery employee signs upon delivery. The item is delivered to the addressee's mail receptacle or other secure location. * * *

* * * * *

115 Mail Preparation

* * * * *

2.0 Express Mail Next Day and Second Day

* * * * *

2.2 Waiver of Signature

[Revise the text of 2.2 as follows:]

A mailer sending an Express Mail item may instruct the USPS to deliver an Express Mail Next Day Delivery or Express Mail Second Day Delivery item without obtaining the signature of the addressee or the addressee's agent by checking and signing the waiver of signature on Label 11-B or Label 11-F, Express Mail Post Office to Addressee, or indicating waiver of signature is requested on single-ply commercial label. Completion of the waiver of signature authorizes the delivery employee to sign upon delivery. The item is delivered to the addressee's mail receptacle or other secure location. Mailers who waive signature will be provided only the delivery date and time, and not an image of the signature when accessing delivery information on the Internet or when calling the toll-free number.

* * * * *

400 Commercial Parcels

* * * * *

410 Express Mail

413 Prices and Eligibility

* * * * *

4.0 Service Features of Express Mail

4.1 General

The service features are as follows:

* * * * *

[Revise the text of the first and second sentences in item b as follows:]

b. When waiver of signature is indicated by the mailer, the delivery employee signs upon delivery. The item is delivered to the addressee's mail receptacle or other secure location. * * *

* * * * *

415 Mail Preparation

* * * * *

2.0 Express Mail Next Day and Second Day

* * * * *

2.2 Waiver of Signature

[Revise the text of 2.2 as follows:]

A mailer sending an Express Mail item may instruct the USPS to deliver an Express Mail Next Day Delivery or Express Mail Second Day Delivery item without obtaining the signature of the addressee or the addressee's agent by checking and signing the waiver of signature on Label 11-B or Label 11-F, Express Mail Post Office to Addressee, or indicating waiver of signature is requested on single-ply commercial label. Completion of the waiver of signature authorizes the delivery employee to sign upon delivery. The item is delivered to the addressee's mail receptacle or other secure location. Mailers who waive signature are provided only the delivery date and time, and not an image of the signature when accessing delivery information on the Internet or when calling the toll-free number.

* * * * *

500 Additional Mailing Services

503 Extra Services

* * * * *

8.0 Return Receipt for Merchandise

* * * * *

8.3 Mailing

* * * * *

8.3.2 How to Mail

A mailer can obtain Form 3804 and Form 3811 (return receipt) at the Post Office or from any rural carrier. Observe these procedures:

* * * * *

[Revise item f as follows:]

f. By signing the waiver on Form 3804, customers are instructing the USPS to deliver the item without obtaining the addressee's or addressee's agent's signature. Completion of the waiver of signature authorizes the delivery employee to sign upon delivery. The item is delivered to the addressee's mail receptacle or other secure location. To waive signature, detach both parts of the gummed sections of label 3804 and attach to the mailpiece.

* * * * *

Neva Watson,
Attorney, Legislative.

[FR Doc. E8-19340 Filed 8-20-08; 8:45 am]

BILLING CODE 7710-12-P